ENVIRONMENTAL PROTECTION AGENCY

[Docket ID No. OW-2004-0004; FRL-7945-3 ]

Notice of Availability: Tribal Drinking Water Operator Certification Program Final Guidelines

AGENCY: Environmental Protection Agency (EPA).

ACTION: Notice.

SUMMARY: The U.S. Environmental Protection Agency (EPA) is announcing the availability of the Tribal Drinking Water Operator Certification Program (Program) Final Guidelines. EPA established the Program to further protect public health by providing operators of drinking water systems in Indian country additional training and certification opportunities for community and non-transient non-community drinking water systems. The Program guidelines establish baseline standards for non-State organizations certifying operators of systems in Indian county and outline a consistent method of assessing, tracking, and addressing the certification and training needs of those operators.

DATES: The Tribal Drinking Water Operator Certification Program Final Guidelines are effective as of July 29, 2005.

ADDRESSES: EPA had previously established a docket for seeking public comment on the Draft Final Guidelines under Docket ID No. OW-2004-0004. All documents in the docket are listed in the EDOCKET index at http://www.epa.gov/edocket.

FOR FURTHER INFORMATION CONTACT: The Safe Drinking Water Hotline at 800-426-4791 for copies of the guidelines and for general information about the document. The guidelines are also available on the EPA Office of Ground Water and Drinking Water Web site at http://www.epa.gov/safewater/tribal.html. For technical inquiries, contact Monica Peña, Environmental Protection Agency, Office of Ground Water and Drinking Water, Mail Code 4606M, 1200 Pennsylvania Ave., NW., Washington, DC 20460; telephone number: (202) 564-2575; e-mail: pena.monica@epa.gov.

SUPPLEMENTARY INFORMATION:

I. General Information

A. How Can I Get Copies of The Guidelines and Other Related Information?

1. Docket. EPA has established an official public docket for this action under Docket ID No. OW-2004-0004. The official public docket consists of the documents specifically referenced in this action, any public comments received, and other information related to this action. Although a part of the official docket, the public docket does not include Confidential Business Information (CBI) or other information whose disclosure is restricted by statute. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in section I.A. Once in the system, select “search,” then key in the appropriate docket identification number.

B. Background

The Tribal Drinking Water Operator Certification Program Final Guidelines represent EPA's effort to establish a program for Tribes that is flexible, while at the same time provides meaningful public health protection to the drinking water community. The Program will provide Tribes with further training and certification opportunities in addition to existing training or certification programs offered by States, various Federal agencies, and private organizations. EPA established the Program to further protect public health by providing operators of drinking water systems in Indian country additional training and certification opportunities for community and non-transient non-community drinking water systems. (A community water system provides drinking water to the same people year-round. A non-transient non-community water system is a water system that serves at least 25 of the same customers on less than a year-round basis.) The Program guidelines establish baseline standards for non-State organizations certifying operators of Tribal systems and outlines a consistent method of assessing, tracking, and addressing certification and training needs on Tribal lands. The Agency believes that establishing a Tribal Operator Certification Program will help bring greater public health protection to Tribal communities.

In 1998, EPA headquarters (HQ) and Regional Offices formed a workgroup to discuss possible approaches for developing the Program in consultation with the Tribes. In addition, EPA coordinated with other Federal agencies and sought their recommendations. A Notice of Availability for the draft guidelines was published in the Federal Register on March 30, 2000 (65 FR 16917). An additional Notification of Availability was published in the Federal Register on April 19, 2004 (69 FR 20874); public comments to those notices and EPA's responses are available at http://www.epa.gov/safewater/tribal.html.

Dated: July 14, 2005.
Benjamin H. Grumbles,
Assistant Administrator, Office of Water.

[FR Doc. 05-15055 Filed 7-28-05; 8:45 am]

BILLING CODE 6560-50-P